DEPARTMENT OF ENERGY

Federal Energy Regulatory Commission

Combined Notice of Filings

Take notice that the Commission has received the following Natural Gas & Oil Pipeline Rate and Refund Report filings:

Filings Instituting Proceedings

Docket Numbers: RP23-536-000.

Applicants: Algonquin Gas Transmission, LLC.

Description: § 4(d) Rate Filing: Negotiated Rates—Various Releases eff 3-1-23 to be effective 3/1/2023.

Filed Date: 3/1/23.

Accession Number: 20230301-5133.

Comment Date: 5 p.m. ET 3/13/23.

Docket Numbers: RP23-537-000.

Applicants: Midship Pipeline Company, LLC.

Description: § 4(d) Rate Filing: Midship Pipeline Fuel Adjustment and Housekeeping Filing to be effective 4/1/2023.

Filed Date: 3/1/23.

Accession Number: 20230301-5141.

Comment Date: 5 p.m. ET 3/13/23.

Docket Numbers: RP23-538-000.

Applicants: Texas Gas Transmission, LLC.

Description: § 4(d) Rate Filing: Cap Rel Neg Rate Agmt (Jay-Bee 34446 to Spotlight 54214) to be effective 3/1/2023.

Filed Date: 3/1/23.

Accession Number: 20230301-5145.

Comment Date: 5 p.m. ET 3/13/23.

Docket Numbers: RP23-539-000.

Applicants: Black Hills Shoshone Pipeline, LLC.

Description: § 4(d) Rate Filing: Blackhills Shoshone LAUF Filing to be effective 4/1/2023.

Filed Date: 3/1/23.

Accession Number: 20230301-5150.

Comment Date: 5 p.m. ET 3/13/23.

Docket Numbers: RP23-540-000.

Applicants: TransCameron Pipeline, LLC.

Description: § 4(d) Rate Filing: Normal filing 2023 Annual Fuel Reimbursement filing to be effective 4/1/2023.

Filed Date: 3/1/23.

Accession Number: 20230301-5170.

Comment Date: 5 p.m. ET 3/13/23.

Docket Numbers: RP23-541-000.

Applicants: El Paso Natural Gas Company, L.L.C.

Description: § 4(d) Rate Filing: Negotiated Rate Agreement Update (SoCal Mar 2 2023) to be effective 3/2/2023.

Filed Date: 3/1/23.

Accession Number: 20230301-5173.

Comment Date: 5 p.m. ET 3/13/23.

Docket Numbers: RP23-542-000.

Applicants: Vector Pipeline L.P.

Description: Annual Fuel Use Report for 2022 of Vector Pipeline L. P.

Filed Date: 3/1/23.

Accession Number: 20230301-5181.

Comment Date: 5 p.m. ET 3/13/23.

Docket Numbers: RP23-543-000.

Applicants: ANR Pipeline Company.

Description: § 4(d) Rate Filing: ANR 2023 Fuel and EPC Filing to be effective 4/1/2023.

Filed Date: 3/1/23.

Accession Number: 20230301-5182.

Comment Date: 5 p.m. ET 3/13/23.

Docket Numbers: RP23-544-000.

Applicants: BBT Midla, LLC.

Description: Compliance filing: BBT Midla Annual LAUF Filing to be effective N/A.

Filed Date: 3/1/23.

Accession Number: 20230301-5186.

Comment Date: 5 p.m. ET 3/13/23.

Docket Numbers: RP23-545-000.

Applicants: Crossroads Pipeline Company.

Description: § 4(d) Rate Filing: TRA 2023 to be effective 4/1/2023.

Filed Date: 3/1/23.

Accession Number: 20230301-5187.

Comment Date: 5 p.m. ET 3/13/23.

Docket Numbers: RP23-546-000.

Applicants: High Point Gas Transmission, LLC.

Description: Compliance filing: High Point Gas Annual LAUF Filing to be effective N/A.

Filed Date: 3/1/23.

Accession Number: 20230301-5196.

Comment Date: 5 p.m. ET 3/13/23.

Docket Numbers: RP23-547-000.

Applicants: Transwestern Pipeline Company, LLC.

Description: § 4(d) Rate Filing: Fuel Filing 3-1-23 to be effective 4/1/2023.

Filed Date: 3/1/23.

Accession Number: 20230301-5212.

Comment Date: 5 p.m. ET 3/13/23.

Docket Numbers: RP23-548-000.

Applicants: Adelphia Gateway, LLC.

Description: Penalty Revenue Crediting Report of Adelphia Gateway, LLC.

Filed Date: 3/1/23.

Accession Number: 20230301-5219.

Comment Date: 5 p.m. ET 3/13/23.

Docket Numbers: RP23-549-000.

Applicants: Empire Pipeline, Inc.

Description: Compliance filing: Refund Report Jan-Dec 2022 (Per Settlement in RP18-940) to be effective N/A.

Filed Date: 3/1/23.

Accession Number: 20230301-5254.

Comment Date: 5 p.m. ET 3/13/23.

Docket Numbers: RP23-550-000.

Applicants: UGI Mt. Bethel Pipeline Company, LLC.

Description: Annual Retainage Adjustment Mechanism Filing of UGI Mt. Bethel Pipeline Company, LLC.

Filed Date: 3/1/23.

Accession Number: 20230301-5267.

Comment Date: 5 p.m. ET 3/13/23.

Docket Numbers: RP23-551-000.

Applicants: UGI Sunbury, LLC.

Description: Annual Retainage Adjustment Filing of UGI Sunbury, LLC.

Filed Date: 3/1/23.

Accession Number: 20230301-5274.

Comment Date: 5 p.m. ET 3/13/23.

Docket Numbers: RP23-552-000.

Applicants: Adelphia Gateway, LLC.

Description: § 4(d) Rate Filing: Adelphia Annual TUP &amp; SBA filing 2023 to be effective 4/1/2023.

Filed Date: 3/1/23.

Accession Number: 20230301-5298.

Comment Date: 5 p.m. ET 3/13/23.

Docket Numbers: RP23-553-000.

Applicants: North Baja Pipeline, LLC.

Description: § 4(d) Rate Filing: Gazprom to SEFE Name Change—NR/Non-Conf Amendment to be effective 3/1/2023.

Filed Date: 3/2/23.

Accession Number: 20230302-5000.

Comment Date: 5 p.m. ET 3/14/23.

Docket Numbers: RP23-554-000.

Applicants: Talen Energy Marketing, LLC, XTO Energy Inc.

Description: Joint Petition for Temporary Waivers of Capacity Release Regulations, et al. of Talen Energy Marketing, LLC, et al.

Filed Date: 3/1/23.

Accession Number: 20230301-5317.

Comment Date: 5 p.m. ET 3/13/23.

Docket Numbers: RP23-555-000.

Applicants: Rover Pipeline LLC.

Description: § 4(d) Rate Filing: Summary of Negotiated Rate Capacity Release Agreements 3-2-23 to be effective 3/1/2023.

Filed Date: 3/2/23.

Accession Number: 20230302-5032.

Comment Date: 5 p.m. ET 3/14/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 2, 2023.
Debbie-Anne A. Reese,
Deputy Secretary.

[FR Doc. 2023-04748 Filed 3-7-23; 8:45 am]

BILLING CODE 6717-01-P